SURFACE TRANSPORTATION BOARD

[Docket No. FD 36512]

Watco Holdings, Inc.—Continuance in Control Exemption—Ringneck & Western Railroad, L.L.C.

Watco Holdings, Inc. (Watco), a noncarrier, has filed a verified notice of exemption under 49 CFR 1180.2(d)(2) to continue in control of Ringneck & Western Railroad, L.L.C. (RWRR), a noncarrier controlled by Watco, upon RWRR's becoming a Class III rail carrier.

This transaction is related to a verified notice of exemption filed concurrently in Ringneck & Western Railroad—Acquisition & Operation Exemption—Railroad Line in Davison, Aurora, Brule, Lyman, Jones, Jackson, & Pennington Counties, S.D., Docket No. FD 36494, in which RWRR seeks, among other things, to acquire from the State of South Dakota approximately 285.43 miles of railroad line and acquire by assignment incidental overhead trackage rights over certain lines of BNSF Railway Company in South Dakota.

The transaction may be consummated on or after May 16, 2021, the effective date of the exemption (30 days after the verified notice was filed).

According to the verified notice of exemption, Watco currently controls indirectly 39 Class III railroads and one Class II railroad, collectively operating in 27 states. For a complete list of these rail carriers and the states in which they operate, see the Appendix to Watco's April 16, 2021 verified notice of exemption. The verified notice is available at www.stb.gov.

Watco represents that: (1) The rail line to be operated by RWRR does not connect with the rail lines of any of the rail carriers controlled by Watco; (2) this transaction is not part of a series of anticipated transactions that would connect RWRR with any railroad in the Watco corporate family; and (3) the transaction does not involve a Class I rail carrier. The proposed transaction is therefore exempt from the prior approval requirements of 49 U.S.C. 11323 pursuant to 49 CFR 1180.2(d)(2).

Under 49 U.S.C. 10502(g), the Board may not use its exemption authority to relieve a rail carrier of its statutory obligation to protect the interests of its employees. Because the transaction involves the control of one Class II and one or more Class III rail carriers, the transaction is subject to the labor protection requirements of 49 U.S.C. 11326(b) and Wisconsin Central Ltd.—Acquisition Exemption—Lines of Union Pacific Railroad, 2 S.T.B. 218 (1997).

If the verified notice contains false or misleading information, the exemption is void ab initio. Petitions to revoke the exemption under 49 U.S.C. 10502(d) may be filed at any time. The filing of a petition to revoke will not automatically stay the effectiveness of the exemption. Petitions for stay must be filed no later than May 7, 2021 (at least seven days before the exemption becomes effective).

All pleadings, referring to Docket No. FD 36512, should be filed with the Surface Transportation Board via e-filing on the Board's website. In addition, one copy of each pleading must be served on Watco's representative, Robert A. Wimbish, Fletcher & Sippel LLC, 29 North Wacker Drive, Suite 800, Chicago, IL 60606.

According to Watco, this action is categorically excluded from environmental review under 49 CFR 1105.6(c) and from historic reporting requirements under 49 CFR 1105.8(b).

Board decisions and notices are available at www.stb.gov.

Decided: April 27, 2021.
By the Board, Allison C. Davis, Director, Office of Proceedings.
Eden Besera,
Clearance Clerk.

[FR Doc. 2021-09058 Filed 4-29-21; 8:45 am]

BILLING CODE 4915-01-P